FEDERAL MARITIME COMMISSION

Notice of Agreements Filed

The Commission hereby gives notice of the filing of the following agreement under the Shipping Act of 1984. Interested parties may submit comments on the agreements to the Secretary by email at Secretary@fmc.gov, or by mail, Federal Maritime Commission, Washington, DC 20573, within twelve days of the date this notice appears in the Federal Register. Copies of agreements are available through the Commission's website (www.fmc.gov) or by contacting the Office of Agreements at (202)-523-5793 or tradeanalysis@fmc.gov.

Agreement No.: 201332.

Agreement Name: Maersk/MSC/SML Cooperative Working Agreement.

Parties: Maersk A/S; Mediterranean Shipping Company S.A.; and SM Line Corporation.

Filing Party: Wayne Rohde; Cozen O'Connor.

Synopsis: The agreement authorizes the parties to operate a vessel string in the trade between ports in China and South Korea on the one hand and ports on the Pacific Coast of the United States. It also authorizes the parties to exchange space on the jointly operated string for space on other specified strings in the Trade, and to charter space on specified services in the Trade.

Proposed Effective Date: 2/12/2020.

Location: https://www2.fmc.gov/FMC.Agreements.Web/Public/AgreementHistory/27468.

Dated: February 14, 2020.
Rachel Dickon,
Secretary.

[FR Doc. 2020-03347 Filed 2-19-20; 8:45 am]

BILLING CODE 6731-AA-P